SECURITIES AND EXCHANGE COMMISSION

[Release No. IC-28006]

Notice of Applications for Deregistration Under Section 8(f) of the Investment Company Act of 1940

September 28, 2007.

The following is a notice of applications for deregistration under section 8(f) of the Investment Company Act of 1940 for the month of September 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on October 23, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Ameritor Investment Fund [File No. 811-747]

Summary: Applicant seeks an order declaring that it has ceased to be an investment company. On July 24, 2007, applicant was liquidated, at which time applicant's liabilities exceeded its assets. Expenses of $6,775 incurred in connection with the liquidation were paid by applicant and Ameritor Financial Corporation, applicant's investment adviser.

Filing Dates: The application was filed on July 24, 2007, and amended on September 14, 2007.

Applicant's Address: 4400 MacArthur Blvd., NW., Suite 301, Washington, DC 20007.

UC Co Investment Fund LLC [File No. 811-21599]

Summary: Applicant, a closed-end investment company, seeks an order declaring that it has ceased to be an investment company. On December 15, 2004, applicant made a liquidating distribution to its shareholders, based on net asset value. Expenses of $1,035 incurred in connection with the liquidation were paid by UC Co Advisors LLC, applicant's investment adviser.

Filing Dates: The application was filed on January 13, 2005, and amended on April 28, 2005 and September 18, 2007.

Applicant's Address: c/o Skadden, Arps, Slate, Meagher & Flom LLP, Four Times Sq., New York, NY 10036.

Dryden Municipal Series Fund [File No. 811-4023]

Summary: Applicant seeks an order declaring that it has ceased to be an investment company. On December 15, 2006, each of applicant's series transferred its assets to Dryden National Municipals Fund, Inc., based on net asset value. Expenses of $1,002,000 incurred in connection with the reorganization were paid by applicant's series.

Filing Date: The application was filed on September 4, 2007.

Applicant's Address: Gateway Center Three, 100 Mulberry St., Newark, NJ 07102-4077.

Van Kampen Trust for Investment Grade Florida Municipals [File No. 811-6538]

Summary: Applicant, a closed-end investment company, seeks an order declaring that it has ceased to be an investment company. On June 8, 2007, applicant transferred its assets to Van Kampen Trust for Investment Grade Municipals, based on net asset value. Applicant's preferred shares were converted into preferred shares of the acquiring fund at a ratio of one-to-one. Expenses of $548,000 incurred in connection with the reorganization were paid by applicant, the acquiring fund and Van Kampen Asset Management, applicant's investment adviser.

Filing Date: The application was filed on September 5, 2007.

Applicant's Address: 522 Fifth Ave., New York, NY 10036.

Asset Management Fund Large Cap Equity Institutional Fund, Inc. [File No. 811-620]

Summary: Applicant seeks an order declaring that it has ceased to be an investment company. On January 8, 2007, applicant transferred its assets to Large Cap Equity Fund, a portfolio of Asset Management Fund, based on net asset value. Expenses of $229,000 incurred in connection with the reorganization were paid by applicant.

Filing Date: The application was filed on August 31, 2007.

Applicant's Address: 675 Third Ave., Suite 1130, New York, NY 10017.

ACM Municipal Securities Income Fund, Inc. [File No. 811-7510]

Summary: Applicant, a closed-end investment company, seeks an order declaring that it has ceased to be an investment company. On May 18, 2007, applicant transferred its assets to AllianceBernstein National Municipal Income Fund, Inc., based on net asset value. Each holder of applicant's preferred shares received corresponding preferred shares of the acquiring fund having an aggregate liquidation preference and value equal to the aggregate liquidation preference and value of the respective class of applicant's preferred stock. Expenses of $215,405 incurred in connection with the reorganization were paid by applicant.

Filing Dates: The application was filed on July 24, 2007 and amended on September 17, 2007.

Applicant's Address: 1345 Avenue of the Americas, New York, NY 10105.

The Tocqueville Alexis Trust [File No. 811-8428]

Summary: Applicant seeks an order declaring that it has ceased to be an investment company. On October 31, 2006, applicant transferred its assets to The Tocqueville Fund, a series of The Tocqueville Trust, based on net asset value. Expenses of $170,265 incurred in connection with the reorganization were paid by Tocqueville Asset Management L.P., applicant's investment adviser.

Filing Date: The application was filed on August 20, 2007.

Applicant's Address: 40 W 57th St., 19th Floor, New York, NY 10019.

Franklin Templeton High Yield Trust [File No. 811-21358]

Summary: Applicant, a closed-end investment company, seeks an order declaring that it has ceased to be an investment company. Applicant has never made a public offering of its securities and does not propose to make a public offering or engage in business of any kind.

Filing Date: The application was filed on August 20, 2007.

Applicant's Address: One Franklin Parkway, San Mateo, CA 94403-1906.

Value Line U.S. Multinational Company Fund, Inc. [File No. 811-7311]

Summary: Applicant seeks an order declaring that it has ceased to be an investment company. On May 16, 2003, applicant made a liquidating distribution to its shareholders, based on net asset value. Expenses of $10,157 incurred in connection with the liquidation were paid by applicant.

Filing Dates: The application was filed on July 17, 2007 and amended on September 5, 2007.

Applicant's Address: 220 East 42nd St., New York, NY 10017.

Advantage Advisers Troon Fund, L.L.C. [File No. 811-8003]

Summary: Applicant, a closed-end investment company, seeks an order declaring that it has ceased to be an investment company. On August 22, 2007, applicant made a final liquidating distribution to its shareholders, based on net asset value. Expenses of $189,970 incurred in connection with the liquidation were paid by applicant.

Filing Dates: The application was filed on August 23, 2007, and amended on September 20, 2007.

Applicant's Address: c/o Oppenheimer & Co. Inc., 200 Park Ave., 24th Floor, New York, NY 10116.

Excelsior Directional Hedge Fund of Funds NewSub, LLC [File No. 811-22055]

Summary: Applicant, a closed-end investment company, seeks an order declaring that it has ceased to be an investment company. Applicant has never made a public offering of its securities and does not propose to make a public offering of its securities.

Filing Dates: The application was filed on April 26, 2007, and amended on September 18, 2007.

Applicant's Address: c/o U.S. Trust Hedge Fund Management, Inc., 225 High Ridge Rd., Stamford, CT 06905.

Federated Capital Income Fund, Inc. [File No. 811-5114]

Summary: Applicant seeks an order declaring that it has ceased to be an investment company. On May 26, 2003, applicant transferred its assets to Federated Capital Income Fund, a portfolio of Federated Income Securities Trust, based on net asset value. Applicant paid $103,804 in expenses incurred in connection with the reorganization.

Filing Dates: The application was filed on April 17, 2007, and amended on April 18, 2007, September 14, 2007 and September 17, 2007.

Applicant's Address: 5800 Corporate Dr., Pittsburgh, PA 15237-7000.

For the Commission, by the Division of Investment Management, pursuant to delegated authority.
Florence E. Harmon,
Deputy Secretary.

[FR Doc. E7-19579 Filed 10-3-07; 8:45 am]

BILLING CODE 8011-01-P